DEPARTMENT OF TRANSPORTATION

National Highway Traffic Safety Administration

[Docket No. NHTSA-2014-0133]

Public Meeting Concerning Test Device for Human Occupant Restraint

AGENCY: National Highway Traffic Safety Administration (NHTSA), Department of Transportation (DOT).

ACTION: Meeting announcement.

SUMMARY: This notice announces a public meeting on Tuesday, January 20, 2015 concerning the development of the Test Device for Human Occupant Restraint (THOR). NHTSA has been developing the THOR anthropomorphic test device (ATD) in order to better understand the causal mechanisms for injury and develop countermeasures to prevent injuries and fatalities in motor vehicle crashes. The purpose of this public meeting is to provide a forum for open communication and data sharing on the THOR ATD towards the common goal of improving the safety of passenger vehicle occupants. This notice announces the date and location of the meeting and explains how those who wish to attend can register for the meeting.

DATES: The public meeting is scheduled from 9 a.m. to 3 p.m. on Tuesday, January 20, 2015. If you would like to attend the public meeting (either in person or via teleconference), you must register no later than Thursday, January 15, 2015. For further information about registration, please see the information provided under FOR FURTHER INFORMATION CONTACT. Please submit all written comments no later than March 15, 2015.

ADDRESSES: The meeting will be held at: Department of Transportation, 1200 New Jersey Ave SE., Washington, DC 20590. This facility is accessible to individuals with disabilities.

Written comments. You may submit comments to the docket number NHTSA-2014-0133 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Instructions: All submissions must include the agency name and docket number. Note that all comments received will be posted without change to http://www.regulations.gov, including any personal information provided. Please see the Privacy Act discussion below.

Docket: For access to the docket, go to http://www.regulations.gov at any time or to 1200 New Jersey Avenue SE., West Building Ground Floor, Room W12-140, Washington, DC 20590, between 9 a.m. and 5 p.m., Monday through Friday, except Federal Holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78) or you may visit http://www.dot.gov/privacy.html.

Confidential Business Information: If you wish to submit information under a claim of confidentiality, you should submit two copies of your complete submission and one copy of the submission containing only the portions for which no claim of confidential treatment is made and from which those portions for which confidential treatment is claimed have been redacted, to the Office of Chief Counsel (NCC-111), National Highway Traffic Safety Administration, Room W41-227, 1200 New Jersey Avenue SE., Washington, DC 20590. You should include a cover letter setting forth the information specified in our confidential business information regulation (49 CFR part 512). In addition, you should submit two copies from which you have redacted the claimed confidential business information to Docket Management at the address given above.

FOR FURTHER INFORMATION CONTACT: To register for the public meeting, please send your name, affiliation, phone number, email address, and whether you will attend in person or over teleconference to Dan.Parent@dot.gov by the date stated under DATES. Teleconference information will be distributed to the pre-registered remote participants. For questions about registering for, or general questions about, the public meeting, please contact Dan Parent (202) 366-1724 or Stephen Ridella (202) 366-4703.

SUPPLEMENTARY INFORMATION: The Test Device for Human Occupant Restraint (THOR) is an advanced anthropomorphic test device (ATD, or test dummy). It is designed to better represent the automotive occupants in the sophisticated restraint systems developed since the advent of the Hybrid III test dummy, such as force-limited three-point belts and air bags. NHTSA has been researching the application of the THOR 50th percentile adult male ATD in frontal and frontal oblique crash test modes. The purpose of this public meeting is to provide a forum for open communication and data sharing on the THOR ATD towards the common goal of improving the safety of passenger vehicle occupants. Potential topics for discussion at the meeting include qualification procedures, repeatability and reproducibility, biofidelity evaluation, injury criteria, and computational models.

Registration is necessary for all attendees. Please see registration instructions under DATES and FOR FURTHER INFORMATION CONTACT. Should it be necessary to cancel the meeting due to inclement weather or any other emergencies, a decision to cancel will be made as soon as possible and emailed to the registered attendees. If you do not have access to email, you may call the contacts listed in this announcement and leave your telephone number and/or email address. You will be contacted only if the meeting is postponed or canceled.

Written comments can be submitted to the docket. See information under DATES and FOR FURTHER INFORMATION CONTACT. The final agenda, as well as material presented at the public meeting, will be posted to the NHTSA Web site at http://www.nhtsa.gov/Research/Biomechanics+&+Trauma/THOR+50th+Male+ATD. The agenda will be posted one week prior to the meeting. A teleconference will be arranged for those who cannot attend the meeting in person.

Tim Johnson,
Acting Associate Administrator for Vehicle Safety Research.

[FR Doc. 2015-00150 Filed 1-7-15; 8:45 am]

BILLING CODE 4910-59-P